ENVIRONMENTAL PROTECTION AGENCY

[FRL-9909-84-OA]

Notification of a Correction Regarding a Public Teleconference of the Clean Air Scientific Advisory Committee (CASAC) Ozone Review Panel

AGENCY: Environmental Protection Agency (EPA).

ACTION: Notice.

SUMMARY: The Environmental Protection Agency (EPA) Science Advisory Board (SAB) Staff Office published a notice in the Federal Register on April 9, 2014, concerning a public teleconference of the Clean Air Scientific Advisory Committee (CASAC) and the CASAC Ozone Review Panel. The notice contained an incorrect date and time of the teleconference.

In the Federal Register of April 9, 2014, in 79 FR 19613 in the second column, correct the DATES caption to read:

DATES: If additional time is needed following the May 28, 2013, teleconference, CASAC and the CASAC Panel will hold a teleconference on Wednesday, June 4, 2014, from 9:00 a.m. to 1:00 p.m. (Eastern Time).

FOR FURTHER INFORMATION CONTACT: Holly Stallworth, Designated Federal Officer, 202-564-2073.

Dated: April 16, 2014.
Thomas H. Brennan,
Deputy Director, EPA Science Advisory Board Staff Office.

[FR Doc. 2014-09137 Filed 4-21-14; 8:45 am]

BILLING CODE 6560-50-P